DEPARTMENT OF HEALTH AND HUMAN SERVICES

Centers for Medicare & Medicaid Services

42 CFR Parts 410, 411, 413, 424, and 489

[CMS-1163-F]

RIN 0938-AK47

Medicare Program; Prospective Payment System and Consolidated Billing for Skilled Nursing Facilities-Update; Final Rule

Correction

In rule document 01-18869 beginning on page 39562 in the issue of Tuesday, July 31, 2001, make the following correction:

On page 39582, the table heading “TABLE 10.A-1992 AND 1997 SKILLED NURSING FACILITY MAJOR COST CATEGORIES AND WEIGHTS FROM MEDICATE COST REPORTS”, should read “TABLE 10.A-1992 AND 1997 SKILLED NURSING FACILITY MAJOR COST CATEGORIES AND WEIGHTS FROM MEDICARE COST REPORTS”.

[FR Doc. C1-18869 Filed 3-13-02; 8:45 am]

BILLING CODE 1505-01-D

DEPARTMENT OF TRANSPORTATION

Coast Guard

46 CFR Parts 28, 109, 122, 131, 169, 185, and 199

[USCG-2001-11118]

RIN 2115-AG28

Liferaft Servicing Intervals

Correction

In proposed rule document 02-5211 beginning on page 9939 in the issue of Tuesday, March 5, 2002, make the following corrections:

1. On page 9941, in the table, under the heading, “Current first servicing (in months), in the fourth line, “ 12 months” should read, “12”.

2. On the same page, in the same table, under the same heading, in the eighth line, “12 months” should read, “12”.

3. On the same page, in the same table, under the heading, “Proposed first servicing (in months), in the first line, add the number “24”.

[FR Doc. C2-5211 Filed 3-13-02; 8:45 am]

BILLING CODE 1505-01-D